DEPARTMENT OF HOUSING AND URBAN DEVELOPMENT

[Docket No. FR-5125-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ENERGY: Mr. John Watson, Department of Energy, Office of Engineering & Construction Management, ME-90, 1000 Independence Ave, SW., Washington, DC 20585: (202) 586-0072; GSA: Mr. John E.B. Smith, Deputy Assistant Commissioner, General Services Administration, Office of Property Disposal, 18th and F Streets, NW., Washington, DC 20405; (202) 501-0084; NAVY: Mr. Warren Meekins, Associate Director, Department of the Navy, Real Estate Services, Naval Facilities Engineering Command, Washington Navy Yard, 1322 Patterson Ave., SE., Suite 1000, Washington, DC 20374-5065; (202) 685-9305. (These are not toll-free numbers.)

Dated: September 20, 2007.
Mark R. Johnston
Deputy Assistant Secretary for Special Needs.

Title V, Federal Surplus Property Program

Suitable/Available Properties

Building

Alabama

SSA Building,

201 College Street,

Gadsden, AL 35901.

Landholding Agency: GSA.

Property Number: 54200730013.

Status: Surplus.

GSA Number: 4-G-AL-0773.

Comments: single story structure w/parking, presence of asbestos, most recent use—office, to be vacant 11/2007.

Massachusetts

Former Railroad Depot,

240 Central Street,

Lowell, MA 01852.

Landholding Agency: GSA.

Property Number: 54200730015.

Status: Excess.

GSA Number: 1-I-MA-910.

Comments: 11,200 sq. ft., estimated $1 million required for interior and mechanical systems, subject to Historic Preservation Standards.

Unsuitable Properties

Building

California

Bldg. CM46A,

Sandia Natl Lab.,

Livermore, CA 94551.

Landholding Agency: Energy.

Property Number: 41200730005.

Status: Excess.

Reasons: Secured Area.

Parcel F, Sewage Treatment Facility,

Norco Co: Riverside, CA 92860.

Landholding Agency: GSA.

Property Number: 54200730014.

Status: Surplus.

GSA Number: 9-G-CA-0432-9.

Reasons: Extensive deterioration.

Portion/Bldg. T17,

Naval Base Point Loma,

San Diego, CA.

Landholding Agency: Navy.

Property Number: 77200730016.

Status: Underutilized.

Reasons: Secured Area.

Bldg. 297,

Naval Base,

San Diego, CA.

Landholding Agency: Navy.

Property Number: 77200730017.

Status: Unutilized.

Reasons: Secured Area.

Unsuitable Properties

Building

California

Bldgs. 13, 87,

Naval Air Station,

Coronado Co: San Diego, CA.

Landholding Agency: Navy.

Property Number: 77200730022.

Status: Excess.

Reasons: Extensive deterioration. Secured Area.

Bldg. 243,

Naval Air Station,

Coronado Co: San Diego, CA.

Landholding Agency: Navy.

Property Number: 77200730023.

Status: Excess.

Reasons: Secured Area. Extensive deterioration.

Bldg. 381,

Naval Air Station,

Coronado Co: San Diego, CA.

Landholding Agency: Navy.

Property Number: 77200730024.

Status: Excess.

Reasons: Secured Area.

Unsuitable Properties

Building

California

4 Bldgs.,

Naval Air Station,

493, 663, 682, 784.

Coronado Co: San Diego, CA.

Landholding Agency: Navy.

Property Number: 77200730025.

Status: Excess.

Reasons: Extensive deterioration. Secured Area.

Bldg. 809,

Naval Air Station,

Coronado Co: San Diego, CA.

Landholding Agency: Navy.

Property Number: 77200730026.

Status: Excess.

Reasons: Secured Area.

Bldg. 983,

Naval Air Station,

Coronado Co: San Diego, CA.

Landholding Agency: Navy.

Property Number: 77200730027.

Status: Excess.

Reasons: Secured Area.

Unsuitable Properties

Building

California

Bldg. 1459,

Naval Air Station,

Coronado Co: San Diego, CA.

Landholding Agency: Navy.

Property Number: 77200730028.

Status: Excess.

Reasons: Extensive deterioration. Secured Area.

Bldg. 334,

Naval Base,

San Diego, CA.

Landholding Agency: Navy.

Property Number: 77200730029.

Status: Excess.

Reasons: Secured Area.

District of Columbia

Bldgs. 86, 87,

Naval Support Activity,

District of Columbia, DC 20373.

Landholding Agency: Navy.

Property Number: 77200730018.

Status: Unutilized.

Reasons: Secured Area.

Unsuitable Properties

Building

Maryland

Structures 1478, 1736, 1738,

Naval Air Station,

Patuxent River, MD 20670.

Landholding Agency: Navy.

Property Number: 77200730019.

Status: Excess.

Reasons: Secured Area.

Bldgs. C1, C14,

Naval Air Station,

Solomons, MD.

Landholding Agency: Navy.

Property Number: 77200730020.

Status: Excess.

Reasons: Extensive deterioration. Secured Area.

Tennessee

Bldgs. 413, 1059,

E. TN Tech Park,

Oak Ridge, TN 37831.

Landholding Agency: Energy.

Property Number: 41200730006.

Status: Excess.

Reasons: Contamination. Secured Area.

Unsuitable Properties

Building

Utah

Myton Comm. Site,

Duchesne, UT.

Landholding Agency: GSA.

Property Number: 54200730016.

Status: Surplus.

GSA Number: 7-A-UT-524.

Reasons: Within 2000 ft. of flammable or explosive material.

Virginia

Bldg. 2398,

Naval Station,

Norfolk, VA.

Landholding Agency: Navy.

Property Number: 77200730021.

Status: Excess.

Reasons: Secured Area.

[FR Doc. E7-18891 Filed 9-27-07; 8:45 am]

BILLING CODE 4210-67-P